FEDERAL COMMUNICATIONS COMMISSION

[OMB 3060-1266; FRS 16331]

Information Collection Approved by the Office of Management and Budget

AGENCY: Federal Communications Commission.

ACTION: Notice.

SUMMARY: The Federal Communications Commission (Commission) announces that the Office of Management and Budget (OMB) has approved a new information collection associated with the Commission's 833 Auction Procedures Public Notice (FCC 19-75) (Public Notice), for a period of three years pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Nicole Ongele, Nicole.Ongele@fcc.gov, (202) 418-2991.

SUPPLEMENTARY INFORMATION: The total annual reporting burdens and costs for the respondents are as follows:

OMB Control Number: 3060-1266.

OMB Approval Date: December 12, 2019.

OMB Expiration Date: December 31, 2022.

Title: Toll Free Number Auctions.

Form Number: FCC Form 5633.

Respondents: Individuals or Households, Business or other for-profit, Not-for-profit Institutions, Farms and/or Federal, State, Local and/or Tribal government agencies.

Number of Respondents and Responses: 1,220 respondents; 1,220 responses.

Estimated Time per Response: 0.084 hours (5 minutes)-0.166 hours (10 minutes).

Frequency of Response: On occasion and one-time reporting requirements.

Obligation to Respond: Required to obtain or retain benefits. Statutory authority for this information collection is contained in 47 U.S.C. 251(e)(1).

Total Annual Burden: 105 hours.

Total Annual Cost: No Cost.

Nature and Extent of Confidentiality: The Commission is not requesting that respondents for this information collection (LOA and Secondary Market) submit confidential information to the FCC. For individuals, the Privacy Act, 5 U.S.C. 552a, is the statutory authority for confidentiality and it applies to this information collection. Respondents may, however, request confidential treatment for information they believe to be confidential under 47 CFR 0.459 of the Commission's rules.

Privacy Act Impact Assessment: The Commission will determine if a Privacy Act Impact Assessment is required. The System of Records Notice, FCC/WCB-2, Toll Free Number Auction System is available on the FCC's website.

Needs and Uses: On September 27, 2018, the Commission released a Report and Order in WC Docket No. 17-192, FCC 18-137 (Report and Order). In the Report and Order, the Commission established competitive bidding as a toll free number assignment method, and called for an auction for select numbers in the toll free code 833 as an experiment to test this method. To verify the relationship between the responsible organization (RespOrg) and the potential subscriber, a Letter of Authorization (LOA) is required during the bidding process. Additionally, a key component to the effectiveness of the auction is the adoption of a post-auction secondary market (Secondary Market) for the sale of the rights to use 833 code toll free numbers won at auction. Collecting data on Secondary Market transactions will allow the Commission to evaluate the operation of the secondary market which is an important component of the toll free number auction experiment, and to determine the potential use of competitive bidding in future toll free number assignments.

Federal Communications Commission.
Marlene Dortch,
Secretary, Office of the Secretary.

[FR Doc. 2019-27502 Filed 12-19-19; 8:45 am]

BILLING CODE 6712-01-P